COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee has received proposals to add to the Procurement List services to be furnished by nonprofit agencies employing persons who are blind or have other severe disabilities, and to delete services previously furnished by such agencies.

DATES: Comments must be received on or before July 31, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Base Supply Center, Operation of Individual Equipment Element Store and HAZMART, MacDill Air Force Base, Florida.

NPA: Winston-Salem Industries for the Blind, Winston-Salem, North Carolina.

Janitorial/Custodial

San Joaquin Valley Agricultural Science Center, Parlier, California.

NPA: Valley Service Connection, Inc., Stockton, California.

Pasco Outpatient Clinic, 9912 Little Road, New Port Richey, Florida.

NPA: Lakeview Center, Inc., Pensacola, Florida.

Selfridge Air National Guard Base, Michigan.

NPA: New Horizons of Oakland County, Inc., Pontiac, Michigan.

Laundry Service

James H. Quillen VA Medical Center, Mountain Home, Tennessee.

NPA: Dawn of Hope Development Center, Inc., Johnson City, Tennessee.

Deletions

I certify that the following action will not have a significant impact on a substantial number of small entities. The major factors considered for this certification were:

1. The action will not result in any additional reporting, recordkeeping or other compliance requirements for small entities.

2. The action will result in authorizing small entities to furnish the services to the Government.

3. There are no known regulatory alternatives which would accomplish the objectives of the Javits-Wagner-O'Day Act (41 U.S.C. 46-48c) in connection with the services proposed for deletion from the Procurement List.

The following services have been proposed for deletion from the Procurement List:

Toner Cartridge Remanufacturing, Naval Training Center, Great Lakes, Illinois.

Toner Cartridge Remanufacturing, Fleet and Industrial Supply Center, Puget Sound, Bremerton, Washington.

Louis R. Bartalot,
Deputy Director (Operations).

[FR Doc. 00-16641 Filed 6-29-00; 8:45 am]

BILLING CODE 6353-01-P